DEPARTMENT OF TRANSPORTATION

Federal Aviation Administration

14 CFR Part 39

[Docket No. FAA-2015-2714; Directorate Identifier 2014-SW-052-AD; Amendment 39-18349; AD 2015-26-01]

RIN 2120-AA64

Airworthiness Directives; Airbus Helicopters

AGENCY: Federal Aviation Administration (FAA), DOT.

ACTION: Final rule.

SUMMARY: We are adopting a new airworthiness directive (AD) for Airbus Helicopters Model AS332C1, AS332L1, AS332L2, EC225LP, AS-365N2, AS 365 N3, EC 155B, and EC155B1 helicopters with an energy absorbing seat (seat). This AD requires inspecting for the presence of labels that prohibit stowing anything under the seat. If a label is missing or not clearly visible to each occupant, we require installing a label. This AD was prompted by the discovery that required labels had not been systematically installed. The actions of this AD are intended to prevent objects from being stowed under the seat as these objects could reduce the energy-absorbing function of the seat, resulting in injury to the seat occupants during an accident.

DATES: This AD is effective January 26, 2016.

The Director of the Federal Register approved the incorporation by reference of certain documents listed in this AD as of January 26, 2016.

ADDRESSES: For service information identified in this final rule, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy, Room 6N-321, Fort Worth, TX 76177.

Examining the AD Docket

You may examine the AD docket on the Internet at http://www.regulations.gov by searching for and locating Docket No. FAA-2015-2714; or in person at the Docket Operations Office between 9 a.m. and 5 p.m., Monday through Friday, except Federal holidays. The AD docket contains this AD, the European Aviation Safety Agency (EASA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Robert Grant, Aviation Safety Engineer, Safety Management Group, FAA, 2601 Meacham Blvd., Fort Worth, Texas 76137; telephone (817) 222-5110; email robert.grant@faa.gov.

SUPPLEMENTARY INFORMATION:

Discussion

On July 14, 2015, at 80 FR 40947, the Federal Register published our notice of proposed rulemaking (NPRM), which proposed to amend 14 CFR part 39 by adding an AD that would apply to Airbus Helicopters Model AS332C1, AS332L1, AS332L2, EC225LP, AS-365N2, AS 365 N3, EC 155B, and EC155B1 helicopters with certain energy absorbing seats. The NPRM proposed to require inspecting for the presence of labels that would prohibit stowing anything under the seat. If a label is missing or not clearly visible to each occupant, the NPRM proposed to require installing a label. The proposed requirements were intended to prevent objects from being stowed under the seat as these objects could reduce the energy-absorbing function of the seat, resulting in injury to the seat occupants during an accident.

The NPRM was prompted by AD No. 2014-0204, dated September 11, 2014, and corrected September 12, 2014, by EASA, which is the Technical Agent for the Member States of the European Union, to correct an unsafe condition for Airbus Helicopters Model AS332C1, AS332L1, AS332L2, EC225LP, AS-365N2, AS 365 N3, EC 155B, and EC155B1 helicopters. EASA advises that during certification of an energy absorbing seat with a new part number, the labels that require keeping the space under the seat free of any object were not systematically installed. EASA states that this condition, if not corrected, could prompt occupants to stow objects under an energy absorbing seat, which would reduce the effectiveness of the seat and the occupants' chance of surviving an accident. The EASA AD consequently requires a one-time inspection for the presence of labels and, if they are missing or unreadable, making and installing labels prohibiting the placing of an object under an energy absorbing seat.

Since the NPRM was issued, the FAA Southwest Regional Office has relocated and a group email address has been established for requesting an FAA Alternative Methods of Compliance (AMOC) for a helicopter of foreign design. Therefore, we have revised the physical address throughout the AD and the email address for requesting an AMOC.

Comments

We gave the public the opportunity to participate in developing this AD, but we received no comments on the NPRM (80 FR 40947, July 14, 2015).

FAA's Determination

These helicopters have been approved by the aviation authority of France and are approved for operation in the United States. Pursuant to our bilateral agreement with France, EASA, its technical representative, has notified us of the unsafe condition described in the EASA AD. We are issuing this AD because we evaluated all information provided by France and determined the unsafe condition exists and is likely to exist or develop on other helicopters of these same type designs and that air safety and the public interest require adopting the AD requirements as proposed.

Related Service Information Under 1 CFR Part 51

Airbus Helicopters issued Alert Service Bulletin (ASB) No. AS332-01.00.85 for Model AS332C1, AS332L1, and AS332L2 helicopters; ASB No. AS365-01.00.66 for Model AS-365N2 and AS 365 N3 helicopters; ASB No. EC155-04A013 for EC 155B and EC155B1 helicopters; and ASB No. EC225-04A012 for Model EC225LP helicopters. All ASBs are Revision 0 and dated August 26, 2014. The ASBs state that during certification of an energy absorbing seat with a new part number, it was observed that the label, which indicates that the space under the seats must remain free of objects, was not systematically installed. Objects stowed under these seats reduce the energy absorbing function and thus jeopardize the occupant's survival in the event of a crash, the ASBs state. Pending a definitive solution, Airbus Helicopters calls for affixing a label that states that nothing can be stored under the seats.

This service information is reasonably available because the interested parties have access to it through their normal course of business or by the means identified in the ADDRESSES section.

Costs of Compliance

We estimate that this AD affects 52 helicopters of U.S. Registry and that labor costs average $85 a work-hour. Based on these estimates, we expect that the inspection for the presence of a label takes a quarter work-hour for a labor cost of about $21. The cost of parts and time for installing a label are minimal, for a total cost of $21 per helicopter and $1,092 for the U.S. fleet.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-26-01 Airbus Helicopters: Amendment 39-18349; Docket No. FAA-2015-2714; Directorate Identifier 2014-SW-052-AD.

(a) Applicability

This AD applies to Airbus Helicopters Model AS332C1, AS332L1, AS332L2, EC225LP, AS-365N2, AS 365 N3, EC 155B, and EC155B1 helicopters with an energy absorbing seat (seat) listed in Figure 1 to paragraph (a) of this AD, certificated in any category.

Figure 1 to Paragraph (a)
Seat manufacturer | Seat type | Generic part No.
Fischer + Entwicklungen | H110 | 9606-()-()-()
| H140 | 0520-()-()-()
| H160 | 0718-()-()-()-()
| 185/410 | 9507-()-()-()
| 236/406 | 9608-()-()-()
SICMA Aero Seat or Zodiac Seats France | Sicma 192 | 192xx-xx-xx
| Sicma 159 | 1591718-xx
|  | 159110
Socea Sogerma | ST102 | 2510102-xx-xx
| ST107 | 2010107-xx-xx
| ST120 | 2520120-xx

Note 1 to Figure 1 to paragraph (a) of this AD: “xx” can be any two alphanumeric characters and “()” can be any number of alphanumeric characters.

(b) Unsafe Condition

This AD defines the unsafe condition as an object stowed under an energy absorbing seat. This condition could reduce the efficiency of the energy-absorbing function of the seat, resulting in injury to the seat occupants during an accident.

(c) Effective Date

This AD becomes effective January 26, 2016.

(d) Compliance

You are responsible for performing each action required by this AD within the specified compliance time unless it has already been accomplished prior to that time.

(e) Required Actions

Within 110 hours time in service:

(1) For Model AS332C1, AS332L1, AS332L2, and EC225LP helicopters:

(i) Inspect the cabin and cockpit for labels, placards, or markings that prohibit stowing anything under the seats in the locations shown in the figure in the Appendix of Airbus Helicopters Alert Service Bulletin No. AS332-01.00.85 (ASB AS332-01.00.85) or No. EC225-04A012 (ASB EC225-04A012), both Revision 0 and dated August 26, 2014, as applicable for your model helicopter.

(ii) If a label, placard, or marking is not located in every location depicted in the figure in the Appendix or is not visible and legible to every occupant, before further flight, install a placard in accordance with the Accomplishment Instructions, paragraph 3.B., of ASB AS332-01.00.85 or ASB EC225-04A012, as applicable for your model helicopter.

(2) For Model AS-365N2, AS 365 N3, EC 155B, and EC155B1 helicopters:

(i) Inspect each seat leg in the cabin and cockpit for labels, placards, or markings that prohibit stowing anything under the seats.

(ii) If a label, placard, or marking does not exist on one leg of each seat or is not visible and legible, before further flight, install a placard in accordance with the Accomplishment Instructions, paragraph 3.B., and the Appendix of Airbus Helicopters Alert Service Bulletin No. AS365-01.00.66 or No. EC155-04A013, both Revision 0 and dated August 26, 2014, as applicable for your model helicopter.

(f) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone (817) 222-5110; email email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) AD No. 2014-0204, dated September 11, 2014, and corrected September 12, 2014. You may view the EASA AD on the Internet at http://www.regulations.gov in Docket No. FAA-2015-2714.

(h) Subject

Joint Aircraft Service Component (JASC) Code: 1100, Placards and Markings.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Alert Service Bulletin No. AS332-01.00.85, Revision 0, dated August 26, 2014.

(ii) Airbus Helicopters Alert Service Bulletin No. EC225-04A012, Revision 0, dated August 26, 2014.

(iii) Airbus Helicopters Alert Service Bulletin No. AS365-01.00.66, Revision 0, dated August 26, 2014.

(iv) Airbus Helicopters Alert Service Bulletin No. EC155-04A013, Revision 0, dated August 26, 2014.

(3) For Airbus Helicopters service information identified in this AD, contact Airbus Helicopters, Inc., 2701 N. Forum Drive, Grand Prairie, TX 75052; telephone (972) 641-0000 or (800) 232-0323; fax (972) 641-3775; or at http://www.airbushelicopters.com/techpub.

(4) You may view this service information at FAA, Office of the Regional Counsel, Southwest Region, 10101 Hillwood Pkwy, Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on December 11, 2015.
Lance T. Gant,
Manager, Rotorcraft Directorate, Aircraft Certification Service.

[FR Doc. 2015-31849 Filed 12-21-15; 8:45 am]

BILLING CODE 4910-13-P